DEPARTMENT OF LABOR

Mine Safety and Health Administration

30 CFR Part 75

[Docket No. MSHA-2025-0087]

RIN 1219-AB89

Electronic Surveying Equipment in Underground Coal Mines

AGENCY: Mine Safety and Health Administration, Labor.

ACTION: Proposed rule; extension of comment period.

SUMMARY: The Mine Safety and Health Administration (MSHA) is extending the comment period on the proposed rule titled, “Electronic Surveying Equipment in Underground Coal Mines,” published in the Federal Register on July 1, 2025, with an established public comment period that is scheduled to end on July 31, 2025. In response to a request for additional time to develop and submit comments on the proposed rule, MSHA is extending the comment period for an additional 30 days, from July 31, 2025, to September 2, 2025.

DATES: The comment period for the proposed rule that was published on July 1, 2025, at 90 FR 28454 is extended. All comments must be submitted by midnight Eastern Standard Time on September 2, 2025.

ADDRESSES: All submissions must include RIN 1219-AB89 or Docket No. MSHA-2025-0087. You should not include personal or proprietary information that you do not wish to disclose publicly. If you mark parts of a comment as “business confidential” information, MSHA will not post those parts of the comment. Otherwise, MSHA will post all comments without change, including any personal information provided. MSHA cautions against submitting personal information.

You may submit comments and informational materials, clearly identified by RIN 1219-AB89 or Docket Id. No. MSHA-2025-0087, by any of the following methods:

1. Federal eRulemaking Portal: https://www.regulations.gov. Follow the online instructions for submitting comments for MSHA-2025-0087. A brief summary of this document is available at https://www.regulations.gov/docket/MSHA-2025-0087.

2. Email: zzMSHA-comments@dol.gov. Include “RIN 1219-AB89” in the subject line of the message.

3. Regular Mail or Hand Delivery: MSHA, Office of Standards, Regulations, and Variances, Room C3522, 200 Constitution Avenue NW, Washington, DC 20210. Before visiting MSHA in person, call 202-693-9440 to make an appointment.

No telefacsimiles (“faxes”) will be accepted.

FOR FURTHER INFORMATION CONTACT: Jessica D. Senk, Acting Director of Office of Standards, Regulations, and Variances, MSHA at 202-693-9440 (voice). This is not a toll-free number.

SUPPLEMENTARY INFORMATION: On July 1, 2025, MSHA published in the Federal Register the proposed rule titled, “Electronic Surveying Equipment in Underground Mines” (90 FR 28454). The proposed rule is available at the Federal eRulemaking Portal, https://regulations.gov. This proposed rule would codify technical specifications and working conditions in MSHA standards to allow the use of electronic surveying equipment in underground gassy mines.

The public comment period for this proposed rule was scheduled to close on July 31, 2025, 30 days after publication of the proposed rule. MSHA received a request from a commenter for an extension of the comment period so that commenters could properly review, research, and develop meaningful comments. The commenter asked for an additional 60 days.

After reviewing the comment, MSHA has determined that it is appropriate to extend the public comment period until September 2, 2025, in order to provide stakeholders and interested parties with an additional 30 days to review the proposal and prepare comments.

James P. McHugh,
Deputy Assistant Secretary for Policy, Mine Safety and Health Administration.

[FR Doc. 2025-13747 Filed 7-21-25; 8:45 am]

BILLING CODE 4520-43-P